DEPARTMENT OF THE INTERIOR

Bureau of Land Management

[WY-050-08-1310-DB]

Notice of Intent To Prepare an Environmental Impact Statement for the Beaver Creek Coal Bed Natural Gas Development Project, Wyoming

AGENCY: Bureau of Land Management, Interior.

ACTION: Notice of intent.

SUMMARY: The Bureau of Land Management (BLM) Lander Field Office intends to prepare an Environmental Impact Statement (EIS) for a proposed coal bed natural gas (CBNG) development approximately 9 miles southeast of Riverton, Wyoming. The proposed development project is known as the Beaver Creek Coal Bed Natural Gas Development Project (Project), located in Fremont County, Wyoming.

DATES: The BLM will announce public scoping meetings hosted in Lander and Riverton, Wyoming to identify relevant issues through local media, newsletters, individual mailings, and the BLM Web site at www.blm.gov/wy/st/en/info/NEPA/lfodocs/beavercreek_cbng.html at least 15 days prior to each meeting. We will provide additional opportunities for public participation upon publication of the Draft EIS, including a minimum 45-day public comment period.

ADDRESSES: You may submit your issues and comments related to the Beaver Creek Coal Bed Natural Gas Development Project EIS by any of the following methods:

• Web Site: www.blm.gov/wy/st/en/info/NEPA/lfodocs/beavercreek_cbng.html.

• E-mail: Curtis_Bryan@blm.gov.

• Fax: 307-332-8444.

• Mail: Lander Field Office, 1335 Main Street, Lander, WY 82520.

Documents pertinent to this proposal may be examined at the Lander Field Office.

FOR FURTHER INFORMATION CONTACT: For further information, contact Curtis Bryan, Telephone (307) 332-8400; E-mail: Curtis_Bryan@blm.gov.

SUPPLEMENTARY INFORMATION: This document provides notice that the BLM Lander Field Office, Lander, Wyoming, intends to prepare an EIS on the potential impacts of a proposed natural gas field development, ancillary facilities, pipelines, and roads. The Beaver Creek Project area is located 9 miles southeast of the town of Riverton in Fremont County, Wyoming. The proposed Project is within the Beaver Creek Unit in Township 33 North, Range 96 West, in all or portions of Sections 1-4, 9-16, 21-23, and 28-29; Township 34, Range 96 West, in all or portions of Sections 20-28 and 33-36 (6th Principal Meridian). The Beaver Creek Project area encompasses approximately 16,515 acres. Approximately 82 percent of the Project area is public lands and Federal mineral estate administered by the BLM, with some interspersed State and private lands and other mineral estate.

The Proponent, Devon Energy Production Co. LP (Devon) has submitted a proposal to drill up to 228 natural gas wells, of which 208 would produce CBNG and about 20 would produce conventional natural gas. The estimated drilling and completion period would occur over the course of 5 to 10 years and the life of the project is anticipated to be between 20 and 40 years. Devon proposes to drill the CBNG wells at a density of one well every 40 acres. The proposed CBNG wells are expected to be drilled vertically and would be completed in the Mesa Verde formation, while the proposed conventional gas wells would likely be completed in the Madison and Phosphoria formations. Because the target formations are located in different geologic formations, conventional gas wells may overlap with the CBNG well density. Facilities associated with the proposed project include access roads, pipelines, overhead power lines, central production facilities, four water disposal (re-injection) wells, two evaporation ponds, and equipment storage areas. The Beaver Creek Unit has experienced extensive gas development over the last 50 years, and the Proponent would utilize existing roads and facilities to the extent practical. During the short-term, while well pads are in construction, pad size is expected to be about 2.5 acres for each the CBNG wells and about 3 acres for conventional wells. This would result in an estimated total short-term well pad disturbance of about 565 acres. Following reclamation, an estimated 390 acres of surface from well pads would be left without vegetation and disturbance. Approximately 24 miles of new access roads would be constructed with most new roads developed as laterals off existing roads. Total disturbance associated with the construction of access roads is estimated to be approximately 117 acres. These roads would be open for the life of the project. In the short-term, construction and installation of approximately 66 miles of new pipelines and overhead powerlines would disturb approximately 550 acres, most of which would be reclaimed for the long-term.

Produced water from the wells would be disposed of into four proposed water disposal (re-injection) wells and two proposed evaporation ponds. The injection wells would serve as the primary method of produced water disposal. No surface discharge of produced water is proposed.

During the drilling phase of the proposed project, Devon estimates that the total short-term surface disturbance would be approximately 1,280 acres. After reclamation and for the life of the proposed project, Devon estimates that the long-term surface disturbance would be about 550 acres.

Major issues identified at this time include: Potential impacts to air quality; disposal of produced waste water; and the potential effects of development and production on surface resources including vegetation, cultural resources, and wildlife habitat.

In addition to the proposed action and the no action alternatives, other alternatives may be developed. These may include: An alternative that considers less than 228 wells; an alternative that considers re-injection of some or all produced water; and an alternative that would eliminate the need for overhead power lines by requiring the proponent to bury all power lines.

Martin G. Griffith,
Acting State Director.

[FR Doc. E8-17327 Filed 7-28-08; 8:45 am]

BILLING CODE 4310-22-P